DEPARTMENT OF ENERGY

Federal Energy Regulatory Commission

[Project No. 2716-041]

Notice of Application for Amendment of License and Soliciting Comments, Motions To Intervene, and Protests

June 5, 2003.

Take notice that the following application has been filed with the Commission and is available for public inspection:

a. Application Type: Amendment of License to Increase its Authorized Generating Capacity.

b. Project No: 2716-041.

c. Date Filed: December 13, 2002.

d. Applicant: Virginia Electric Power Company.

e. Name of Project: Bath County Pumped Storage Project.

f. Location: The project is located on the Back Creek and Little Back Creek in Bath County, Virginia.

g. Filed Pursuant to: Federal Power Act, 16 U.S.C. 791a-825r.

h. Applicant Contact: Martin L. Bowling, Jr., Dominion Virginia Power, 5000 Dominion Boulevard, Glen Allen, VA 23060, (804) 273-3034.

i. FERC Contact: Any questions on this notice should be addressed to Mr. Jake Tung at (202) 502-8757, or e-mail address: hong.tung@ferc.gov.

j. Deadline for filing comments and or motions: July 7, 2003.

k. Description of Request: The licensee proposes to overhaul all six turbine-generators for the project over the next seven years, starting on October 6, 2003, and continuing at the pace of one unit per year. The overhaul includes replacement of the runners which will result in increases in turbine hydraulic capacity and generating capacity. The licensee states that the proposed capacity increase: (1) Would not affect the upper or lower minimum or maximum reservoir levels, (2) would increase the rate of flow between the reservoirs, and (3) would not affect the releases from both the upper reservoir into Little Back Creek and the lower reservoir into Back Creek.

l. Location of the Application: The filing is available for review at the Commission in the Public Reference Room , located at 888 First Street, NE., Room 2A, Washington, DC 20426, or may be viewed on the Commission's Web site at http://www.ferc.gov using the “FERRIS” link. Enter the docket number excluding the last three digits in the docket number field to access the document. For assistance, please call the Helpline at (866) 208-3676 or contact FERCONLINESUPPORT@ferc.gov. For TTY, contact (202) 502-8659.

m. Individuals desiring to be included on the Commission's mailing list should so indicate by writing to the Secretary of the Commission.

n. Comments, Protests, or Motions to Intervene:Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See 18 CFR 385.2001(a)(1)(iii) and the instructions on the Commission's Web site at http://www.ferc.gov under the “e-Filing” link.

Magalie R. Salas,
Secretary.

[FR Doc. 03-14753 Filed 6-10-03; 8:45 am]

BILLING CODE 6717-01-P